OFFICE OF PERSONNEL MANAGEMENT

Proposed Collection; Comment Request for Review of a Revised Information Collection: (OMB Control No. 3206-0201; Federal Employees Health Benefits (FEHB) Open Season Express Interactive Voice Response (IVR) System)

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for review of a revised information collection. This information collection, “Federal Employees Health Benefits (FEHB) Open Season Express Interactive Voice Response (IVR) System” (OMB Control No. 3206-0201), and the Open Season Web site, Open Season Online, are used by retirees and survivors. They collect information for changing FEHB enrollments, collecting dependent and other insurance information for self and family enrollments, requesting plan brochures, requesting a change of address, requesting cancellation or suspension of FEHB benefits, asking to make payment to the Office of Personnel Management when the FEHB payment is greater than the monthly annuity amount, or for requesting FEHB plan accreditation and Customer Satisfaction Survey information.

Comments are particularly invited on: Whether this information is necessary for the proper performance of functions of the Office of Personnel Management and whether it will have practical utility; whether our estimate of the public burden of this collection of information is accurate and based on valid assumptions and methodology; and ways in which we can minimize the burden of the collection of information on those who are to respond, through the use of appropriate technological collection techniques or other forms of information technology.

We receive approximately 215,000 responses per year to the IVR system and the online web. Each response takes approximately 10 minutes to complete. The annual burden is 35,833 hours.

For copies of this proposal, contact Cyrus S. Benson on (202) 606-4808, FAX (202) 606-0910 or via e-mail to Cyrus.Benson@opm.gov. Please include a mailing address with your request.

DATES: Comments on this proposal should be received within December 6, 2010.

ADDRESSES: Send or deliver comments to—

James K. Freiert (Acting), Deputy Associate Director, Retirement Operations, Retirement and Benefits, U.S. Office of Personnel Management, 1900 E Street, NW., Room 3305, Washington, DC 20415-3500.

For information regarding administrative coordination contact:

Cyrus S. Benson, Team Leader, Publications Team, RB/RM/Administrative Services, U.S. Office of Personnel Management, 1900 E Street, NW., Room 4H28, Washington, DC 20415, (202) 606-4808.

U.S. Office of Personnel Management.
John Berry,
Director.

[FR Doc. 2010-25049 Filed 10-5-10; 8:45 am]

BILLING CODE 6325-38-P